ENVIRONMENTAL PROTECTION AGENCY

[ER-FRL-6698-6]

Environmental Impact Statements; Notice of Availability

Responsible Agency: Office of Federal Activities, General Information (202) 564-7167 or http://www.epa.gov/compliance/neap/.

Weekly Receipt of Environmental Impact Statements

Filed 04/28/2008 Through 05/02/2008

Pursuant to 40 CFR 1506.9.

EIS No. 20080166, Revised Draft EIS, AFS, WI, Cayuga Project, New Information Regarding American Marten, Regional Forester Sensitive Species (RFSS), Changed Condition on the Landscape from Spruce Decline and New Non-Native Invasive Species Survey Information, Chequamegon-Nicolet National Forest, Great Divide Ranger District, Ashland County, WI, Comment Period Ends: 06/23/2008, Contact: Patty Beyer 906-226-1499.

EIS No. 20080167, Draft EIS, COE, CO, Northern Integrated Supply Project, Construction and Operation a Regional Water Supply to Serve the Current and Future Water Needs of 12 Towns and Water District, Approval of Section 404 Permit Application, Northern Colorado Water Conservancy District, Larimer and Weld Counties, CO, Comment Period Ends:06/30/2008, Contact: Chandler J. Peter 303-979-4120.

EIS No. 20080168, Final EIS, AFS, AK, Iyouktug Timber Sales, Proposes Harvesting Timber, Implementation, Hoonah Ranger District, Tongass National Forest, Hoonah, AK, Wait Period Ends: 06/09/2008, Contact: Richard Jennings 907-945-3631.

EIS No. 20080169, Revised Draft EIS, COE, CA, Berth 97-109 (China Shipping) Container Terminal Project, Construction and Operation, Issuance of Section 404 (CWA) and Section 10 Rivers and Harbor Act Permits, Port of Los Angeles, Los Angeles County, CA, Comment Period Ends: 06/30/2008, Contact: Dr. Spencer D. MacNeil 805-585-2152.

EIS No. 20080170, Final EIS, AFS, MT, Young Dodge Project, Proposed Timber Harvest and Associate Activities, Prescribed Burning, Road and Recreation Management, Kootenai National Forest, Rexford Ranger District, Lincoln County, MT, Wait Period Ends: 06/09/2008, Contact: Pat Price 406-296-7163.

EIS No. 20080171, Draft EIS, NOA, WA, Makah Whale Hunt Project, Proposed Authorization to Makah Indiana Tribe's the Right to Hunt Whales (Gray Whales (Eschrichtius robustus) under the 1855 Treaty of Neah Bay, WA, Comment Period Ends: 07/07/2008, Contact: Donna Darm 206-526-6150.

EIS No. 20080172, Draft Supplement, COE, CA, Rio del Oro Specific Plan Project, New Information on Biological Resource and Water Supply, City of Rancho Cordova, Sacramento County, CA, Comment Period Ends: 07/07/2008, Contact: Kathleen Dadey, Ph.D 916-557-7253.

EIS No. 20080173, Final Supplement, FTA, TX, North Corridor Fixed Guideway Project, Updated/Additional Information on the Locally Preferred Alternative, Proposed Transit Improvements from University of Houston (UH)-Downtown Station to Northline Mall, Harris County, TX, Wait Period Ends: 06/09/2008, Contact: Timothy Lidiak 817-978-0550.

EIS No. 20080174, Final EIS, AFS, OR, Crawford Project and Proposed Nonsignificant Forest Plan Amendments, Commercial Timber Harvest, Prescribed Burning, Adjustments to Dedicated Old Growth Areas, and Road Closure and Decommissioning Activities, Implementation, Blue Mountain Ranger District, Malheur National Forest, Grant County, OR, Wait Period Ends: 06/09/2008, Contact: Ryan Falk 541-820-3800.

EIS No. 20080175, Final EIS, AFS, 00, Sage Steppe Ecosystem Restoration Strategy, Implementation, Modoc National Forest, Modoc, Lassen, Shasta Counties, CA and Washoe County, NV, Wait Period Ends: 06/09/2008, Contact: Rob Jeffers 530-233-8816.

EIS No. 20080176, Final EIS, AFS, CA, North 49 Forest Health Recovery Project, Restore Fire Adapted Forest System, Located in the Red (MA-16) and Logan (MA-45) Management Areas, Hat Creek Ranger District, Lassen National Forest, Shasta County, CA, Wait Period Ends: 06/09/2008, Contact: Kit Mullen 530-336-5521.

EIS No. 20080177, Final EIS, USN, HI, Hawaii Range Complex (HRC) Project, Preferred Alternative is 3, To Support and Maintain Navy Pacific Fleet Training, and Research, Development, Test, and Evaluation (RDT&E) Operations, Kauai, Honolulu, Maui and Hawaii Counties, HI, Wait Period Ends: 06/09/2008, Contact: Tom Clements 866-767-3347.

EIS No. 20080178, Final EIS, AFS, UT, Big Creek Vegetation Treatment Project, Preferred Alternative is 1, To Treat 4,800 Acres of Aspen Conifer and Sagebrush Communities, Ogden Ranger District, Wasatch-Cache National Forest, Rich County, UT, Wait Period Ends: 06/09/2008, Contact: Chip Sibbernsen 801-625-5112.

EIS No. 20080179, Final Supplement, FTA, TX, Southeast Corridor Project, Preferred Alternative is the Light Rail Alternative, Proposed Fixed-Guideway Transit System, Funding, Metropolitan Transit Authority (METRO) of Harris County, Houston, Harris County, TX, Wait Period Ends: 06/11/2008, Contact: Timothy Lidiak 817-978-0550.

EIS No. 20080180, Fourth Draft Supplement, FTA, 00, South Corridor Portland-Milwaukie Light Rail Project, Proposal to Develop Light Rail Transit in Final Segment, Connecting downtown Portland, OR, the City of Milwaukie and north Clackamas and Multnomah, OR and Clark County, WA, Comment Period Ends: 06/23/2008, Contact: Mark Turpel 206-220-7954.

Amended Notices

EIS No. 20080067, Draft EIS, FHW, MI, Detroit River International Crossing Study, Proposed Border Crossing System between the International Border Cities of Detroit, Michigan and Windsor, Ontario, Wayne County, MI, Comment Period Ends: 05/29/2008, Contact: David T. Williams 517-702-1820. Revision of FR Notice Published 02/29/2008: Extending Comment Period from 04/29/2008 to 05/29/2008.

EIS No. 20080103, Draft EIS, USN, FL, Mayport Naval Station Project, Proposed Homeporting of Additional Surface Ships, Several Permits, Mayport, FL, Comment Period Ends: 05/27/2008, Contact: William Sloger 874-820-5797. Revision to FR Published 03/28/2008: Extending Comment Period from 05/12/2008 to 05/27/20008.

Dated: May 6, 2008.
Robert W. Hargrove,
Director, NEPA Compliance Division, Office of Federal Activities.

[FR Doc. E8-10402 Filed 5-8-08; 8:45 am]

BILLING CODE 6560-50-P